DEPARTMENT OF THE TREASURY

Office of Thrift Supervision

[AC-47: OTS No. H-4732]

Northfield Bancorp, Inc., Staten Island, NY; Approval of Conversion Application

Notice is hereby given that on August 9, 2010, the Office of Thrift Supervision approved the application of Northfield Bancorp, MHC and Northfield Bank, Staten Island, New York, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, NJ 07311.

Dated: August 10, 2010.
By the Office of Thrift Supervision.
Sandra E. Evans,
Federal Register Liaison.

[FR Doc. 2010-20020 Filed 8-17-10; 8:45 am]

BILLING CODE 6720-01-M